ELECTION ASSISTANCE COMMISSION

Sunshine Act Meetings

AGENCY: Election Assistance Commission.

ACTION: Sunshine Act notice; Notice of public meeting.

SUMMARY: Public Meeting: U.S. Election Assistance Commission Technical Guidelines Development Committee Virtual Meeting.

DATES: Wednesday, September 17, 2025; 1-3 p.m. ET.

ADDRESSES: The virtual meeting is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will hold a virtual meeting of the EAC Technical Guidelines Development Committee (TGDC). The purpose of the meeting is to receive feedback on version 2.1 of the Voluntary Voting System Guidelines.

Background: Section 221 of the Help America Vote Act (HAVA) of 2002 (52 U.S.C. 20971(b)) requires that the EAC adopt Voluntary Voting System Guidelines and to provide for the testing, certification, decertification, and recertification of voting system hardware and software.

The TGDC was established in accordance with the requirements of Section 221 of the Help America Vote Act of 2002 (Pub. L. 107-252, codified at 52 U.S.C. 20961), to act in the public interest to assist the Executive Director of the EAC in the development of Voluntary Voting System Guidelines.

Status: This meeting will be open to the public.

Camden Kelliher,
General Counsel, U.S. Election Assistance Commission.

[FR Doc. 2025-16432 Filed 8-25-25; 4:15 pm]

BILLING CODE 4810-71-P